DEFENSE NUCLEAR FACILITIES SAFETY BOARD

Sunshine Act Notice

AGENCY: Defense Nuclear Facilities Safety Board.

ACTION: Notice of public meeting.

SUMMARY: Pursuant to the provisions of the Government in the Sunshine Act, 5 U.S.C. 552b, and as authorized by 42 U.S.C. 2286b, notice is hereby given of a three-part public hearing and meeting in Richland, Washington. Interested persons or groups may present comments, technical information, or data to the Board on the announced topics.

Time and Date of Meeting: Session I: 9 a.m.-1 p.m., October 7, 2010; Session II: 5 p.m.-9 p.m., October 7, 2010; Session III: 8 a.m.-12 p.m., October 8, 2010.

Place: Room 133, Richland Federal Building, 825 Jadwin Avenue, Richland, Washington 99352-3589.

Status: Open.

Matters To Be Considered: This hearing concerns safety-related aspects of the design and construction of the Department of Energy's Waste Treatment and Immobilization Plant at the Hanford Site. Prior to the hearing, the Board will send to the Department of Energy a series of questions to which written answers will be expected. The answers supplied by the Department will be posted on the Board's Internet Web site (http://www.dnfsb.gov) prior to the hearing. These written responses will be treated as part of the hearing record and will be used by the Board to assist in framing the issues to be explored in oral testimony. Technical issues under review include (1) changes in safety-related design criteria resulting from modification of the material-at-risk, (2) changes in design strategy to address hydrogen in pipes and ancillary vessels, (3) criticality safety concerns and other safety-related risks for the pulse jet mixing system, (4) reclassification of safety-related systems, structures, and components, and (5) safety-related design aspects of new facilities or modifications of existing facilities needed to deliver high-level waste feed.

The Board will be prepared to accept any other information related to public health or safety, including that of the workers with respect to the Waste Treatment and Immobilization Plant.

Contact Person for More Information: Brian Grosner, General Manager, Defense Nuclear Facilities Safety Board, 625 Indiana Avenue, NW., Suite 700, Washington, DC 20004-2901, (800) 788-4016. This is a toll-free number.

SUPPLEMENTARY INFORMATION: Public participation in the hearing is invited. The Board is setting aside thirty minutes at the end of each session of the hearing for presentations and comments from the public. Requests to speak may be submitted in writing or by telephone. The Board asks that commentators describe the nature and scope of their oral presentations. Those who contact the Board prior to close of business on Friday, October 1, 2010, will be scheduled to speak at the session of the hearing most relevant to their presentations. On the morning of October 7, the Board will post a schedule of speakers at the entrance to the hearing room. Anyone who wishes to comment or provide technical information or data may do so in writing, either in lieu of, or in addition to, making an oral presentation. The Board members may question presenters to the extent deemed appropriate. Documents will be accepted at the hearing or may be sent to the Board's Washington, DC, office.

The Board will hold the record open until November 7, 2010, for the receipt of additional materials. A transcript of the meeting will be made available by the Board for inspection by the public at the Board's Washington office and at DOE's public reading room at the DOE Federal Building, 1000 Independence Avenue, SW., Washington, DC 20585. The Board specifically reserves its right to further schedule and otherwise regulate the course of the meeting and hearing, to recess, reconvene, postpone, or adjourn the meeting and hearing, conduct further reviews, and otherwise exercise its power under the Atomic Energy Act of 1954, as amended.

Dated: July 21, 2010.
Jessie H. Roberson,
Vice Chairman.

[FR Doc. 2010-18298 Filed 7-22-10; 11:15 am]

BILLING CODE 3670-01-P